DEPARTMENT OF COMMERCE

National Oceanic and Atmospheric Administration

50 CFR Part 679

[Docket No. 051201318-5318-01; I.D. 112805A]

Fisheries of the Exclusive Economic Zone Off Alaska; Gulf of Alaska; Proposed 2006 and 2007 Harvest Specifications for Groundfish

AGENCY: National Marine Fisheries Service (NMFS), National Oceanic and Atmospheric Administration (NOAA), Commerce.

ACTION: Proposed rule; apportionment of reserves; request for comments.

SUMMARY: NMFS proposes 2006 and 2007 harvest specifications, reserves and apportionments, and Pacific halibut prohibited species catch (PSC) limits, for the groundfish fishery of the Gulf of Alaska (GOA). This action is necessary to establish harvest limits and associated management measures for groundfish during the 2006 and 2007 fishing years. The intended effect of this action is to conserve and manage the groundfish resources in the GOA in accordance with the Magnuson-Stevens Fishery Conservation and Management Act (Magnuson-Stevens Act).

DATES: Comments must be received by January 17, 2006.

ADDRESSES: Send comments to Sue Salveson, Assistant Regional Administrator, Sustainable Fisheries Division, Alaska Region, NMFS, Attn: Lori Durall. Comments may be submitted by:

• Mail to P.O. Box 21668, Juneau, AK 99802;

• Hand Delivery to the Federal Building, 709 West 9th Street, Room 420A, Juneau, AK;

• E-mail to 2006AKgroundfish.tacspecs@noaa.gov and include in the subject line the document identifier: 2006 Proposed Specifications (E-mail comments, with or without attachments, are limited to 5 megabytes);

• Fax to 907-586-7557; or

• Webform at the Federal eRulemaking Portal: http://www.regulations.gov. Follow the instructions at that site for submitting comments.

Copies of the draft Environmental Assessment/Initial Regulatory Flexibility Analysis (EA/IRFA) prepared for this action are available from NMFS at the address above or from the Alaska Region Web site www.fakr.noaa.gov. Copies of the final 2004 Stock Assessment and Fishery Evaluation (SAFE) reports, dated November 2004, and the October 2005 Council meeting minutes, are available from the North Pacific Fishery Management Council, West 4th Avenue, Suite 306, Anchorage, AK, 99510 or from its home page at http://www.fakr.noaa.gov/npfmc.

FOR FURTHER INFORMATION CONTACT: Tom Pearson, Sustainable Fisheries Division, Alaska Region, 907-481-1780 or e-mail at tom.pearson@noaa.gov.

SUPPLEMENTARY INFORMATION:

Background

NMFS manages the GOA groundfish fisheries in the exclusive economic zone off Alaska under the Fishery Management Plan for Groundfish of the GOA (FMP). The North Pacific Fishery Management Council (Council) prepared the FMP under the authority of the Magnuson-Stevens Act, 16 U.S.C. 1801, et seq. Regulations governing U.S. fisheries and implementing the FMP appear at 50 CFR parts 600, 679, and 680.

These proposed specifications are based on the 2004 SAFE reports. In November 2005, the 2005 SAFE reports will be used to develop the 2006 and 2007 final acceptable biological catch (ABC) amounts. Any anticipated changes in the final specifications from the proposed specification are identified in this notice for public review.

The FMP and its implementing regulations require NMFS, after consultation with the Council, to specify the total allowable catch (TAC) for each target species and for the “other species” category, the sum of which must be within the optimum yield (OY) range of 116,000 metric tons (mt) to 800,000 mt. Section 679.20(c)(1) further requires NMFS to publish and solicit public comment on proposed annual TACs, halibut PSC amounts, and seasonal allowances of pollock and inshore/offshore Pacific cod. The proposed specifications set forth in Tables 1 through 16 of this document satisfy these requirements. For 2006, the sum of the proposed TAC amounts is 301,304 mt. For 2007, the sum of the proposed TAC amounts is 281,640 mt. Under § 679.20(c)(3), NMFS will publish the 2006 and 2007 final specifications after (1) considering comments received within the comment period (see DATES), (2) consulting with the Council at its December 2005 meeting, and (3) considering new information presented in the EA and the final 2005 SAFE report prepared for the 2006 and 2007 fisheries.

Proposed ABC and TAC Specifications

The proposed ABC and TAC for each species or species group are based on the best available biological and socioeconomic information, including projected biomass trends, information on assumed distribution of stock biomass, and revised methods used to calculate stock biomass. The FMP specifies the formulas, or tiers, to be used in computing ABCs and overfishing levels (OFL). The formulas applicable to a particular stock or stock complex are determined by the level of reliable information available to fisheries scientists. This information is categorized into a successive series of six tiers with tier one representing the highest level of information and tier six the lowest level of information.

The Council and its Science and Statistical Committee (SSC) and Advisory Panel (AP) reviewed current biological and harvest information about the condition of groundfish stocks in the GOA in October 2005. Most of the information available to the SSC, AP, and Council was initially compiled by the Council's GOA Groundfish Plan Team and was presented in the final 2004 SAFE report for the GOA groundfish fisheries, dated November 2004 (see ADDRESSES). The Plan Team annually produces the SAFE report as the first step in the process of specifying TACs.

The SAFE report contains a review of the latest scientific analyses, estimates of each species' biomass and other biological parameters, summaries of the available information on the GOA ecosystem, and the economic condition of the groundfish fisheries off Alaska. From these data and analyses, the Plan Team estimates an ABC for each species category. The 2004 SAFE report will be updated to include new information collected during 2005. The Plan Team will provide revised stock assessments in November 2005 in the final 2005 SAFE report. The Council will review the 2005 SAFE report in December 2005. The final 2006 and 2007 harvest specifications may be adjusted from the proposed harvest specifications based on the 2005 SAFE report.

The SSC adopted the OFL and ABC recommendations from the Plan Team for all groundfish species. Based on the recommendations from the SSC for OFLs and ABCs and the AP recommendations for TAC amounts, the Council recommended amending the 2006 OFL, ABC, and TAC amounts for pollock, Pacific cod, sablefish, flathead sole, arrowtooth flounder, northern rockfish, and “other species” as published in the 2005 and 2006 final harvest specifications for groundfish in the GOA on February 24, 2005 (70 FR 8958). These amended amounts were recommended by the Council based on new information developed in 2005. For tier 1-3 stocks listed above, the GOA Groundfish Plan Team recommended projected groundfish OFLs and ABCs for 2006 and 2007 at its September 2005 meeting. The projections for tier 1-3 stocks used species-specific Alaska Fisheries Science Center population models, which include information on age structure, growth and reproduction, and natural and fishing mortality. The Council recommended that proposed OFL and ABC levels for those stocks in tiers 4-6, for which projections cannot be made, remain unchanged from 2005 levels for 2006 and 2007.

As in 2005, the SSC's, AP's and Council's recommendation for the method of apportioning the sablefish ABC among management areas includes commercial fishery and survey data. NMFS stock assessment scientists believe that the use of unbiased commercial fishery data reflecting catch-per-unit effort provides a desirable input for stock distribution assessments. The use of commercial fishery data is evaluated annually to assure that unbiased information is included in stock distribution models. The Council's recommendation for sablefish area apportionments also takes into account the prohibition on the use of trawl gear in the Southeast Outside (SEO) District of the Eastern GOA and makes available 5 percent of the combined Eastern GOA TACs to trawl gear for use as incidental catch in other directed groundfish fisheries in the West Yakutat District (WYK).

The AP, SSC, and Council recommended that the ABC for Pacific cod in the GOA be apportioned among regulatory areas based on the three most recent NMFS summer trawl surveys. As in previous years, the Plan Team, SSC, and Council recommended that total removals of Pacific cod from the GOA not exceed ABC recommendations. Accordingly, the Council recommended adjusting the 2006 and 2007 TACs downward from the ABCs by amounts equal to the 2005 guideline harvest levels (GHL) established for Pacific cod by the State of Alaska (State) for the state managed fisheries in the GOA. The effect of the State's GHL on the Pacific cod TAC is discussed in greater detail below. As in 2005, for 2006 and 2007, NMFS proposes to establish an A season directed fishing allowance (DFA) for the Pacific cod fisheries in the GOA based on the management area TACs less the recent average A season incidental catch of Pacific cod in each management area before June 10 (§ 679.20(d)(1)). The DFA and incidental catch before June 10 will be managed such that total harvest in the A season will be no more than 60 percent of the annual TAC. Incidental catch taken after June 10 will continue to be taken from the B season TAC. This action meets the intent of the Steller Sea Lion Protection Measures by achieving temporal dispersion of the Pacific cod removals and reducing the likelihood of harvest exceeding 60 percent of the annual TAC in the A season (January 1 through June 10).

For 2006 and 2007, the Council recommends and NMFS proposes the ABCs listed in Tables 1 and 2. These amounts reflect harvest amounts that are less than the proposed 2006 and 2007 overfishing amounts. The sum of the proposed 2006 ABCs for all target species TACs is 547,181 mt, which is higher than the final 2005 ABC total of 539,263 mt and the final 2006 ABC total of 542,456 mt (70 FR 8958, February 24, 2005). The sum of the proposed 2007 ABCs for all target species TACs is 536,559 mt, which is lower than the final 2005 ABC total and the final 2006 ABC total of 547,181 mt.

Specification and Apportionment of TAC Amounts

The Council recommended proposed TACs for 2006 and 2007 that are equal to proposed ABCs for pollock, deep-water flatfish, rex sole, sablefish, Pacific ocean perch, shortraker rockfish, rougheye rockfish, northern rockfish, pelagic shelf rockfish, thornyhead rockfish, demersal shelf rockfish, skates, and Atka mackerel. The Council recommended TACs that are less than the ABCs for Pacific cod, flathead sole, shallow-water flatfish, arrowtooth flounder, and other rockfish.

The apportionment of annual pollock TAC among the Western and Central Regulatory Areas of the GOA reflects the seasonal biomass distribution and is discussed in greater detail below. The annual pollock TAC in the Western and Central Regulatory Areas of the GOA is divided into four equal seasonal apportionments. Twenty-five percent of the annual TAC in the Western and Central Regulatory Areas of the GOA is apportioned respectively to the A season (January 20 through March 10), the B season (March 10 through May 31), the C season (August 25 through October 1), and the D season (October 1 through November 1) in Statistical Areas 610, 620, and 630 of the GOA (§§ 679.23(d)(2)(i) through (iv) and 679.20(a)(5)(iii)(B)).

The 2006 and 2007 Pacific cod TACs are affected by the State's developing fishery for Pacific cod in State waters in the Western and Central GOA, and in Prince William Sound (PWS). The SSC, AP, and Council recommended that the sum of all State and Federal water Pacific cod removals not exceed the ABC. Accordingly, the Council recommended that for 2006 and 2007, the Pacific cod TACs be reduced from ABC levels to account for State GHLs in each regulatory area of the GOA. Therefore, respective 2006 TACs are reduced from ABCs as follows: (1) Eastern GOA 386 mt, (2) Central GOA 7,898 mt, and (3) Western GOA 4,988 mt. Respective 2007 TACs are reduced as follows: (1) Eastern GOA 324 mt, (2) Central GOA 6,643 mt, and (3) Western GOA 4,196 mt. These amounts reflect the sum of the State's 2006 and 2007 GHLs in these areas, which are 10 percent, 25 percent, and 25 percent of the Eastern, Central, and Western GOA ABCs, respectively.

NMFS also is proposing seasonal apportionments of the annual Pacific cod TAC in the Western and Central Regulatory Areas. Sixty percent of the annual TAC is apportioned to the A season for hook-and-line, pot or jig gear from January 1 through June 10, and for trawl gear from January 20 through June 10. Forty percent of the annual TAC is apportioned to the B season for hook-and-line, pot or jig gear from September 1 through December 31, and for trawl gear from September 1 through November 1 (§§ 679.23(d)(3) and 679.20(a)(11)). These seasonal apportionments of the annual Pacific cod TAC are discussed in greater detail below.

The FMP specifies that the amount for the “other species” category is calculated as 5 percent of the combined TAC amounts for target species. The 2006 GOA-wide “other species” TAC is 14,348 mt and the 2007 TAC is 13,411 mt, which is 5 percent of the sum of the combined TAC amounts (286,946 mt for 2006 and 268,229 mt for 2007) for the assessed target species. The sum of the TACs for all GOA groundfish is 301,304 mt for 2006 and 281,640 mt for 2007, which is within the OY range specified by the FMP. The sum of the proposed 2006 TACs are higher than the 2005 TAC sum of 291,298 mt while the sum of the proposed 2007 TACs are lower than in 2005.

In June 2005, the Council selected its preferred alternative for Amendment 69 to the GOA FMP to revise the manner in which the “other species” complex TAC is annually established. If approved, Amendment 69 would allow the Council, as part of its annual harvest specification process, to recommend a TAC amount for the “other species” less than or equal to 5 percent of the sum of the combined TAC amounts for target species. The intent of Amendment 69 is to better conserve and manage the species which comprise the “other species” complex.

If approved by the Secretary of Commerce, the Central Gulf of Alaska Rockfish Pilot Program would allocate rockfish, associated groundfish, halibut PSC limits, and groundfish sideboard limits to a specific group of eligible harvesters in 2007. These amounts are expected to be identified in September 2006 and would modify the harvest specifications for 2007.

NMFS finds that the Council's recommendations for proposed OFL, ABC, and TAC amounts are consistent with the biological condition of groundfish stocks as adjusted for other biological and socioeconomic considerations, including maintaining the total TAC within the required OY range of 116,000 to 800,000 mt. The proposed 2006 and 2007 ABCs, TACs, and OFLs are shown in Tables 1 and 2.

Table 1.—Proposed 2006 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska.
[Values are rounded to the nearest metric ton]
Total | Species | Area ¹ | ABC | TAC | Overfishing level
| Pollock ² | Shumagin (610) | 35,202 | 35,202 | N/A
|  | Chirikof (620) | 39,865 | 39,865 | N/A
|  | Kodiak (630) | 21,678 | 21,678 | N/A
|  | WYK (640) | 1,955 | 1,955 | N/A
Subtotal |  | W/C/WYK | 98,700 | 98,700 | 133,900
|  | SEO (650) | 6,520 | 6,520 | 8,690
Total |  |  | 105,220 | 105,220 | 142,590
| Pacific cod ³ | W | 19,952 | 14,964 | N/A
|  | C | 31,590 | 23,692 | N/A
|  | E | 3,858 | 3,472 | N/A
Total |  |  | 55,400 | 42,128 | 82,000
| Flatfish ⁴ (deep-water) | W | 330 | 330 | N/A
|  | C | 3,340 | 3,340 | N/A
|  | WYK | 2,120 | 2,120 | N/A
|  | SEO | 1,030 | 1,030 | N/A
Total |  |  | 6,820 | 6,820 | 8,490
| Rex sole | W | 1,680 | 1,680 | N/A
|  | C | 7,340 | 7,340 | N/A
|  | WYK | 1,340 | 1,340 | N/A
|  | SEO | 2,290 | 2,290 | N/A
Total |  |  | 12,650 | 12,650 | 16,480
| Flathead sole | W | 12,316 | 2,000 | N/A
|  | C | 31,617 | 5,000 | N/A
|  | WYK | 3,149 | 3,149 | N/A
|  | SEO | 408 | 408 | N/A
Total |  |  | 47,490 | 10,557 | 59,240
| Flatfish ⁵ (shallow-water) | W | 21,580 | 4,500 | N/A
|  | C | 27,250 | 13,000 | N/A
|  | WYK | 2,030 | 2,030 | N/A
|  | SEO | 1,210 | 1,210 | N/A
Total |  |  | 52,070 | 20,740 | 63,840
| Arrowtooth flounder | W | 25,833 | 8,000 | N/A
|  | C | 166,275 | 25,000 | N/A
|  | WYK | 11,599 | 2,500 | N/A
|  | SEO | 9,753 | 2,500 | N/A
Total |  |  | 213,460 | 38,000 | 249,140
| Sablefish ⁶ | W | 2,371 | 2,371 | N/A
|  | C | 6,767 | 6,767 | N/A
|  | WYK | 2,409 | 2,409 | N/A
|  | SEO | 3,333 | 3,333 | N/A
Subtotal |  | E | 5,742 | 5,742 | N/A
Total |  |  | 14,880 | 14,880 | 18,000
| Pacific ocean perch ⁷ | W | 2,525 | 2,525 | 3,019
|  | C | 8,375 | 8,375 | 10,008
|  | WYK | 813 | 813 | N/A
|  | SEO | 1,579 | 1,579 | N/A
Subtotal |  | E | N/A | N/A | 2,860
Total |  |  | 13,292 | 13,292 | 15,887
| Shortraker rockfish ⁸ | W | 155 | 155 | N/A
|  | C | 324 | 324 | N/A
|  | E | 274 | 274 | N/A
Total |  |  | 753 | 753 | 982
| Rougheye rockfish ⁹ | W | 188 | 188 | N/A
|  | C | 557 | 557 | N/A
|  | E | 262 | 262 | N/A
Total |  |  | 1,007 | 1,007 | 1,531
| Other rockfish 10 11 | W | 40 | 40 | N/A
|  | C | 300 | 300 | N/A
|  | WYK | 130 | 130 | N/A
|  | SEO | 3,430 | 200 | N/A
Total |  |  | 3,900 | 670 | 5,150
| Northern rockfish 11 12 | W | 752 | 752 | N/A
|  | C | 3,978 | 3,978 | N/A
|  | E | 0 | 0 | N/A
Total |  |  | 4,730 | 4,730 | 5,620
| Pelagic shelf rockfish ¹³ | W | 366 | 366 | N/A
|  | C | 2,973 | 2,973 | N/A
|  | WYK | 205 | 205 | N/A
|  | SEO | 871 | 871 | N/A
Total |  |  | 4,415 | 4,415 | 5,510
| Thornyhead rockfish | W | 410 | 410 | N/A
|  | C | 1,010 | 1,010 | N/A
|  | E | 520 | 520 | N/A
Total |  |  | 1,940 | 1,940 | 2,590
| Big skates ¹⁴ | W | 727 | 727 | N/A
|  | C | 2,463 | 2,463 | N/A
|  | E | 809 | 809 | N/A
Total |  |  | 3,999 | 3,999 | 5,332
| Longnose skates ¹⁵ | W | 66 | 66 | N/A
|  | C | 1,972 | 1,972 | N/A
|  | E | 780 | 780 | N/A
Total |  |  | 2,818 | 2,818 | 3,757
| Other skates ¹⁶ | GW | 1,327 | 1,327 | 1,769
| Demersal shelf rockfish ¹⁸ | SEO | 410 | 410 | 640
| Atka mackerel | GW | 600 | 600 | 6,200
| Other species 17 19 | GW | N/A | 14,348 | N/A
Total ²⁰ |  |  | 547,181 | 301,304 | 694,748
¹ Regulatory areas and districts are defined at § 679.2.
² Pollock is apportioned in the Western/Central Regulatory Areas among three statistical areas. During the A season, the apportionment is based on an adjusted estimate of the relative distribution of pollock biomass of approximately 24 percent, 56 percent, and 20 percent in Statistical Areas 610, 620, and 630, respectively. During the B season, the apportionment is based on the relative distribution of pollock biomass at 24 percent, 66 percent, and 10 percent in Statistical Areas 610, 620, and 630, respectively. During the C and D seasons, the apportionment is based on the relative distribution of pollock biomass at 49 percent, 21 percent, and 30 percent in Statistical Areas 610, 620, and 630, respectively. These proposed seasonal apportionments for 2006 and 2007 are shown in Tables 5 and 6. In the West Yakutat and Southeast Outside Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component. Proposed seasonal apportionments and component allocations of TAC for 2006 and 2007 are shown in Tables 7 and 8.
⁴ “Deep water flatfish” means Dover sole, Greenland turbot, and deepsea sole.
⁵ “Shallow water flatfish” means flatfish not including “deep water flatfish,” flathead sole, rex sole, or arrowtooth flounder.
⁶ Sablefish is allocated to trawl and hook-and-line gears for 2006 and to trawl gear in 2007 these amounts are shown in Tables 3 and 4.
⁷ “Pacific ocean perch” means Sebastes alutus.
⁸ “Shortraker rockfish” means Sebastes borealis.
⁹ “Rougheye rockfish” means Sebastes aleutianus.
¹⁰ “Other rockfish” in the Western and Central Regulatory Areas and in the West Yakutat District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹² “Northern rockfish” means Sebastes polyspinis.
¹³ “Pelagic shelf rockfish” means Sebastes ciliatus (dark), S. variabilis (dusky), S. entomelas (widow), and S. flavidus (yellowtail).
¹⁴ Big skate means Raja binoculata.
¹⁵ Longnose skate means Raja rhina.
¹⁶ Other skates means Bathyraja spp.
¹⁷ N/A means not applicable.
¹⁸ “Demersal shelf rockfish” means Sebastes pinniger (canary), S. nebulosus (china), S. caurinus (copper), S. maliger (quillback), S. helvomaculatus (rosethorn), S. nigrocinctus (tiger), and S. ruberrimus (yelloweye).
¹⁹ “Other species” means sculpins, sharks, squid, and octopus. There is no OFL or ABC for “other species”, the TAC for “other species” equals 5 percent of the TACs for assessed target species.
²⁰ The total ABC and OFL is the sum of the ABCs and OFLs for assessed target species.
These footnotes also apply to Table 2.

Table 2.—Proposed 2007 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska.
[Values are rounded to the nearest metric ton]
Total | Species | Area ¹ | ABC | TAC | Overfishing level
| Pollock ² | Shumagin (610) | 31,743 | 31,743 | N/A
|  | Chirikof (620) | 35,947 | 35,947 | N/A
|  | Kodiak (630) | 19,547 | 19,547 | N/A
|  | WYK (640) | 1,763 | 1,763 | N/A
Subtotal |  | W/C/WYK | 89,000 | 89,000 | 119,800
|  | SEO (650) | 6,520 | 6,520 | 8,690
Total |  |  | 95,520 | 95,520 | 128,490
| Pacific cod ³ | W | 16,783 | 12,587 | N/A
|  | C | 26,572 | 19,929 | N/A
|  | E | 3,245 | 2,920 | N/A
Total |  |  | 46,600 | 35,436 | 68,900
| Flatfish ⁴ (deep-water) | W | 330 | 330 | N/A
|  | C | 3,340 | 3,340 | N/A
|  | WYK | 2,120 | 2,120 | N/A
|  | SEO | 1,030 | 1,030 | N/A
Total |  |  | 6,820 | 6,820 | 8,490
| Rex sole | W | 1,680 | 1,680 | N/A
|  | C | 7,340 | 7,340 | N/A
|  | WYK | 1,340 | 1,340 | N/A
|  | SEO | 2,290 | 2,290 | N/A
Total |  |  | 12,650 | 12,650 | 16,480
| Flathead sole | W | 12,355 | 2,000 | N/A
|  | C | 31,721 | 5,000 | N/A
|  | WYK | 2,336 | 2,336 | N/A
|  | SEO | 308 | 308 | N/A
Total |  |  | 47,650 | 9,644 | 59,500
| Flatfish ⁵ (shallow-water) | W | 21,580 | 4,500 | N/A
|  | C | 27,250 | 13,000 | N/A
|  | WYK | 2,030 | 2,030 | N/A
|  | SEO | 1,210 | 1,210 | N/A
Total |  |  | 52,070 | 20,740 | 63,840
| Arrowtooth flounder | W | 26,939 | 8,000 | N/A
|  | C | 173,394 | 25,000 | N/A
|  | WYK | 12,096 | 2,500 | N/A
|  | SEO | 10,171 | 2,500 | N/A
Total |  |  | 222,600 | 38,000 | 260,150
| Sablefish ⁶ | W | 2,215 | 2,215 | N/A
|  | C | 6,322 | 6,322 | N/A
|  | WYK | 2,250 | 2,250 | N/A
|  | SEO | 3,113 | 3,113 | N/A
Subtotal |  | E | 5,363 | 5,363 | N/A
Total |  |  | 13,900 | 13,900 | 16,900
| Pacific ocean perch ⁷ | W | 2,494 | 2,494 | 2,985
|  | C | 8,293 | 8,293 | 9,896
|  | WYK | 803 | 803 | N/A
|  | SEO | 1,560 | 1,560 | N/A
Subtotal |  | E | N/A | N/A | 2,829
Total |  |  | 13,150 | 13,150 | 15,710
| Shortraker rockfish ⁸ | W | 155 | 155 | N/A
|  | C | 324 | 324 | N/A
|  | E | 274 | 274 | N/A
Total |  |  | 753 | 753 | 982
| Rougheye rockfish ⁹ | W | 188 | 188 | N/A
|  | C | 557 | 557 | N/A
|  | E | 262 | 262 | N/A
Total |  |  | 1,007 | 1,007 | 1,531
| Other rockfish ¹⁰ ¹¹ | W | 40 | 40 | N/A
|  | C | 300 | 300 | N/A
|  | WYK | 130 | 130 | N/A
|  | SEO | 3,430 | 200 | N/A
Total |  |  | 3,900 | 670 | 5,150
| Northern rockfish ¹¹ ¹² | W | 704 | 704 | N/A
|  | C | 3,726 | 3,726 | N/A
|  | E | 0 | 0 | N/A
Total |  |  | 4,430 | 4,430 | 5,270
| Pel agic shelf rockfish ¹³ | W | 366 | 366 | N/A
|  | C | 2,973 | 2,973 | N/A
|  | WYK | 205 | 205 | N/A
|  | SEO | 871 | 871 | N/A
Total |  |  | 4,415 | 4,415 | 5,510
| Thornyhead rockfish | W | 410 | 410 | N/A
|  | C | 1,010 | 1,010 | N/A
|  | E | 520 | 520 | N/A
Total |  |  | 1,940 | 1,940 | 2,590
| Big skates ¹⁴ | W | 727 | 727 | N/A
|  | C | 2,463 | 2,463 | N/A
|  | E | 809 | 809 | N/A
Total |  |  | 3,999 | 3,999 | 5,332
| Longnose skates ¹⁵ | W | 66 | 66 | N/A
|  | C | 1,972 | 1,972 | N/A
|  | E | 780 | 780 | N/A
Total |  |  | 2,818 | 2,818 | 3,757
| Other skates ¹⁶ | GW | 1,327 | 1,327 | 1,769
| Demersal shelf rockfish ¹⁸ | SEO | 450 | 450 | 690
| Atka mackerel | GW | 600 | 600 | 6,200
| Other species ¹⁷ ¹⁹ | GW | ²¹ | 13,411 | N/A
Total ²⁰ |  |  | 536,559 | 281,640 | 677,191
The footnotes in Table 2 are identical to those presented above for Table 1.

Proposed Apportionment of Reserves

Regulations at § 679.20(b)(2) require 20 percent of each TAC for pollock, Pacific cod, flatfish, and the “other species” category to be set aside in reserves for possible apportionment at a later date. In 2005, NMFS reapportioned all the reserves in the final harvest specifications. For 2006 and 2007, NMFS proposes apportionment of all the reserves for pollock, Pacific cod, flatfish, and “other species.” Specifications of TAC shown in Tables 1 and 2 reflect apportionment of reserve amounts for these species and species groups.

Proposed Apportionments of the Sablefish TAC Amounts to Vessels Using Hook-and-Line and Trawl Gear

Under § 679.20(a)(4)(i) and (ii), sablefish TACs for each of the regulatory areas and districts are allocated to hook-and-line and trawl gear. In the Western and Central Regulatory Areas, 80 percent of each TAC is allocated to hook-and-line gear, and 20 percent of each TAC is allocated to trawl gear. In the Eastern GOA, 95 percent of the TAC is allocated to hook-and-line gear and 5 percent is allocated to trawl gear. The trawl gear allocation in the Eastern GOA may only be used to support incidental catch of sablefish in directed fisheries for other target species (§ 679.20(a)(1)). In recognition of the trawl ban in the SEO District of the Eastern GOA, the Council recommended and NMFS proposes that 5 percent of the combined Eastern GOA sablefish TAC be allocated to trawl gear in the WYK District and the remainder to vessels using hook-and-line gear. In the SEO District, 100 percent of the sablefish TAC is allocated to vessels using hook-and-line gear. The Council recommended that only trawl sablefish TAC be established biennially. This recommendation results in an allocation of 287 mt to trawl gear and 2,122 mt to hook-and-line gear in the WYK District and 3,333 mt to hook-and-line gear in the SEO District in 2006. Table 3 shows the allocations of the proposed 2006 sablefish TACs between hook-and-line gear and trawl gear. Table 4 presents the allocation of the proposed 2007 sablefish TACs to trawl gear.

Table 3.—Proposed 2006 Sablefish TAC Specifications in the Gulf of Alaska and Allocations Thereof to Hook-and-Line and Trawl Gear
[Values are rounded to the nearest metric ton]
Area/District | TAC | Hook-and-line apportionment | Trawl apportionment
Western | 2,371 | 1,897 | 474
Central | 6,767 | 5,414 | 1,353
West Yakutat | 2,409 | 2,122 | 287
Southeast Outside | 3,333 | 3,333 | 0
Total | 14,880 | 12,766 | 2,114

Table 4.—Proposed 2007 Sablefish TAC Specifications in the Gulf of Alaska and Allocation Thereof to Trawl Gear
[Values are rounded to the nearest metric ton]
Area/District | TAC | Hook-and-line apportionment ¹ | Trawl apportionment
Western | 2,215 | N/A | 443
Central | 6,322 | N/A | 1,264
West Yakutat | 2,250 | N/A | 268
Southeast Outside | 3,113 | N/A | 0
Total | 13,900 | N/A | 1,975
¹ The Council recommended that specifications for the hook-and-line gear sablefish IFQ fisheries be limited to 1 year to ensure that those fisheries are conducted concurrently with the halibut IFQ fishery.

Proposed Apportionments of Pollock TAC Among Seasons and Regulatory Areas, and Allocations for Processing by Inshore and Offshore Components

In the GOA, pollock is apportioned by season and area, and is further divided between inshore and offshore processing components. Under § 679.20(a)(5)(iii)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among statistical areas 610, 620, and 630 in the A and B seasons in proportion to the distribution of pollock biomass based on a composite of NMFS winter surveys and in the C and D seasons in proportion to the distribution of pollock biomass based on the four most recent NMFS summer surveys. As in 2005, the Council recommended averaging the winter and summer distribution of pollock in the Central Regulatory Area for the A season to better reflect the distribution of pollock and the performance of the fishery in the area during the A season for the 2006 and 2007 fishing years. Within any fishing year, the underage or overage of a seasonal allowance may be added to, or subtracted from, subsequent seasonal allowances. The rollover amount is limited to 20 percent of the seasonal apportionment for the statistical area. Any unharvested pollock above the 20 percent limit could be further distributed to the other statistical areas, in proportion to the estimated biomass in the subsequent season in those statistical areas. The WYK District pollock TAC of 1,955 mt in 2006, and 1,763 mt in 2007, along with the SEO District pollock TAC of 6,520 mt for 2006 and 2007, are not allocated seasonally.

Section 679.20(a)(6)(i) requires the allocation of 100 percent of the pollock TAC in all regulatory areas and all seasonal allowances thereof to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under at § 679.20(e) and (f). At this time, these incidental catch amounts are unknown and will be determined during the fishing year.

The proposed 2006 and 2007 seasonal biomass distribution of pollock in the Western and Central GOA, area apportionments, and seasonal apportionments for the A, B, C, and D seasons are summarized in Tables 5 and 6.

Table 5.—Proposed 2006 Distribution of Pollock in the Central and Western Regulatory Areas of the Gulf of Alaska; Seasonal Biomass Distribution, Area Apportionments; and Seasonal Allowances of Annual TAC
[Values are rounded to the nearest metric ton]
[Area Apportionments Resulting From Seasonal Distribution of Biomass]
Season | Shumagin (Area 610) | Chirikof (Area 620) | Kodiak (Area 630) | Total
A | 5,835 (24.12%) | 13,547 (56.01%) | 4,805 (19.87%) | 24,187 (100%)
B | 5,835 (24.12%) | 16,012 (66.2%) | 2,339 (9.68%) | 24,186 (100%)
C | 11,766 (48.64%) | 5,153 (21.3%) | 7,267 (30.06%) | 24,186 (100%)
D | 11,766 (48.64%) | 5,153 (21.3%) | 7,267 (30.06%) | 24,186 (100%)
Annual total | 35,202 | 39,865 | 21,678 | 96,745

Table 6.—Proposed 2007 Distribution of Pollock in the Central and Western Regulatory Areas of the Gulf of Alaska; Seasonal Biomass Distribution, Area Apportionments; and Seasonal Allowances of Annual TAC
[Values are rounded to the nearest metric ton]
[Area Apportionments Resulting From Seasonal Distribution of Biomass]
Season | Shumagin (Area 610) | Chirikof (Area 620) | Kodiak (Area 630) | Total
A | 5,262 (24.12%) | 12,216 (56.01%) | 4,332 (19.87%) | 21,810 (100%)
B | 5,261 (24.12%) | 14,439 (66.2%) | 2,109 (9.68%) | 21,809 (100%)
C | 10,610 (48.64%) | 4,646 (21.3%) | 6,553 (30.06%) | 21,809 (100%)
D | 10,610 (48.64%) | 4,646 (21.3%) | 6,553 (30.06%) | 21,809 (100%)
Annual total | 31,743 | 35,947 | 19,547 | 87,237

Proposed Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)). After subtraction of incidental catch, 60 percent and 40 percent of the annual TAC will be available for harvest during the A and B seasons, respectively, and will be apportioned between the inshore and offshore processing components, as provided in § 679.20(a)(6)(ii). Between the A and the B seasons, directed fishing for Pacific cod is closed, and fishermen participating in other directed fisheries may retain Pacific cod up to the maximum retainable amounts allowed under § 679.20(e) and (f). Under § 679.20(a)(11)(ii), any overage or underage of Pacific cod allowance from the A season may be subtracted from or added to the subsequent B season allowance.

Section 679.20(a)(6)(ii) requires the allocation of the TAC apportionment of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the proposed 2006 and 2007 Pacific cod TACs are shown in Tables 7 and 8, respectively.

Table 7.—Proposed 2006 Seasonal Apportionments and Allocation of Pacific Cod TAC Amounts in the Gulf of Alaska; Allocations for Processing by the Inshore and Offshore Components
[Values are rounded to the nearest metric ton]
Season | Regulatory area | TAC | Component allocation: Inshore (90%) | Component allocation: Offshore (10%)
Annual | Western | 14,964 | 13,468 | 1,496
A season (60%) |  | 8,978 | 8,080 | 898
B season (40%) |  | 5,986 | 5,388 | 598
Annual | Central | 23,692 | 21,323 | 2,369
A season (60%) |  | 14,215 | 12,794 | 1,421
B season (40%) |  | 9,477 | 8,529 | 948
Annual | Eastern | 3,472 | 3,125 | 347
Total |  | 42,128 | 37,915 | 4,213

Table 8.—Proposed 2007 Seasonal Apportionments and Allocation of Pacific Cod TAC Amounts in the Gulf of Alaska; Allocations for Processing by the Inshore and Offshore Components
[Values are rounded to the nearest metric ton]
Season | Regulatory area | TAC | Component allocation: Inshore (90%) | Component allocation: Offshore (10%)
Annual | Western | 12,587 | 11,328 | 1,259
A season (60%) |  | 7,552 | 6,797 | 755
B season (40%) |  | 5,035 | 4,531 | 504
Annual | Central | 19,929 | 17,936 | 1,993
A season (60%) |  | 11,957 | 10,761 | 1,196
B season (40%) |  | 7,972 | 7,175 | 797
Annual | Eastern | 2,920 | 2,628 | 292
Total |  | 35,436 | 31,892 | 3,544

Proposed Halibut PSC Limits

Under § 679.21(d), annual halibut PSC limits are established and apportioned to trawl and hook-and-line gears and may be established for pot gear. In October 2005, the Council recommended that NMFS maintain the 2005 halibut PSC limits of 2,000 mt for the trawl fisheries and 300 mt for the hook-and-line fisheries. Ten mt of the hook-and-line limit is further allocated to the demersal shelf rockfish (DSR) fishery in the SEO District. Historically, the DSR fishery, defined at § 679.21(d)(4)(iii)(A), has been apportioned this amount in recognition of its small scale harvests. Most vessels in the DSR fishery are less than 60 ft (18.3 m) length overall (LOA) making them exempt from observer coverage. Although observer data are not available to verify actual bycatch amounts, NMFS assumes the halibut bycatch in the DSR fishery is low because of the short soak times for the gear and duration of the DSR fishery. Also, the DSR fishery occurs in the winter when less overlap occurs in the distribution of DSR and halibut.

Section 679.21(d)(4) authorizes the exemption of specified non-trawl fisheries from the halibut PSC limit. The Council recommended that pot gear, jig gear, and the hook-and-line sablefish fishery be exempted from the non-trawl halibut limit for 2006 and 2007. The Council recommended these exemptions because: (1) The pot gear fisheries experience low halibut bycatch mortality (averaging 11 mt annually from 2001 through 2004 and 38 mt through October 8, 2005); (2) the Individual Fishing Quota (IFQ) program requires legal-sized halibut to be retained by vessels using hook-and-line gear if a halibut IFQ permit holder is aboard and is holding unused halibut IFQ; and (3) halibut mortality for the jig gear fleet cannot be estimated because these vessels do not carry observers. NMFS assumes halibut mortality is very low given the small amount of groundfish harvested by jig gear (averaging 303 mt annually from 2001 through 2004 and 153 mt through October 8, 2005) and assumes that survival rates of any halibut incidentally caught by jig gear and released are high.

Under § 679.21(d)(5), NMFS seasonally apportions the halibut PSC limits based on recommendations from the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2005 groundfish and PSC specifications (70 FR 8958, February 24, 2005) summarized the Council and NMFS findings with respect to each of these FMP considerations. The Council's and NMFS' findings are unchanged. The proposed Pacific halibut PSC limits, and apportionments thereof for 2006 and 2007, are presented in Table 9. Sections 679.21(d)(5)(iii) and (iv) specify that any underages or overages in a seasonal apportionment of a PSC limit will be deducted from or added to the next respective seasonal apportionment within the 2006 and 2007 fishing years.

Table 9.—Proposed 2006 and 2007 Pacific Halibut PSC Limits, Allowances, and Apportionments. The Pacific Halibut PSC Limit for Hook-and-Line Gear Is Allocated to the Demersal Shelf Rockfish (DSR) Fishery and Fisheries Other Than DSR. The Hook-and-Line Sablefish Fishery Is Exempt From Halibut PSC Limits.
[Values are in metric tons]
Trawl gear: Dates | Trawl gear: Amount | Hook-and-line gear: Other than DSR: Dates | Hook-and-line gear: Other than DSR: Amount | Hook-and-line gear: DSR: Dates | Hook-and-line gear: DSR: Amount
January 20-April 1 | 550 (27.5%) | January 1-June 10 | 250 (86%) | January-December 31 | 10 (100%)
April 1-July 1 | 400 (20%) | June 10-September 1 | 5 (2%) |  |
July 1-September 1 | 600 (30%) | September 1-December 31 | 35 (12%) |  |
September 1-October 1 | 150 (7.5%) |  |  |  |
October 1-December 31 | 300 (15%) |  |  |  |
Total | 2,000 (100%) |  | 290 (100%) |  | 10 (100%)

Section 679.21(d)(3)(ii) authorizes the further apportionment of the trawl halibut PSC limit to trawl fishery categories, based on each category's proportional share of the anticipated halibut bycatch mortality during a fishing year and the need to optimize the total amount of groundfish harvest under the halibut PSC limit. The fishery categories for the trawl halibut PSC limits are (1) a deep-water species complex, comprised of sablefish, rockfish, deep-water flatfish, rex sole and arrowtooth flounder; and (2) a shallow-water species complex, comprised of pollock, Pacific cod, shallow-water flatfish, flathead sole, Atka mackerel, skates, and “other species” (§ 679.21(d)(3)(iii)). The proposed 2006 and 2007 seasonal apportionments for these two fishery complexes are presented in Table 10.

Table 10.—Proposed 2006 and 2007 Seasonal Apportionments of Pacific Halibut PSC Trawl Limits Between the Trawl Gear Deep-Water Species Complex and the Shallow-Water Species Complex
[Values are in metric tons]
Season | Shallow-water | Deep-water | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 | N/A | N/A | 300
Total | N/A | N/A | 2,000
No apportionment between shallow-water and deep-water fishery complexes during the 5th season (October 1-December 31).

Based on public comment and information contained in the final 2005 SAFE report, the Council may recommend, or NMFS may make, changes in the seasonal, gear-type, or fishing-complex apportionments of halibut PSC limits for the final 2006 and 2007 harvest specifications. NMFS will consider the following types of information in setting final halibut PSC limits.

Estimated Halibut Bycatch in Prior Years

The best available information on estimated halibut bycatch is data collected by observers during 2005. The calculated halibut bycatch mortality by trawl, hook-and-line, and pot gears through October 8, 2005, is 2,005 mt, 187 mt, and 38 mt, respectively, for a total halibut mortality of 2,230 mt.

Halibut bycatch restrictions seasonally constrained trawl gear fisheries during the 2005 fishing year. Trawling during the first season closed for the deep-water complex on March 23 (70 FR 15600, March 28, 2005) and during the second season on April 8 (70 FR 19339, April 13, 2005). This April 18 closure was modified to open trawling for the deep-water fishery complex from April 24 through May 3 (70 FR 21678, April 27, 2005 and 70 FR 23940, May 6, 2005). Trawling during the third season closed for the deep-water complex on July 24 (70 FR 43327, July 27, 2005) and during the fourth season on September 4 (70 FR 52326, September 2, 2005). Trawling during the third season closed for the shallow-water complex on August 19 (70 FR 49507, August 24, 2005) and during the fourth season on September 4 (70 FR 52325, September 2, 2005). Trawling for all groundfish targets (with the exception of pollock by vessels using pelagic trawl gear) closed for the fifth season on October 1 (70 FR 57803, October 4, 2005). The use of hook-and-line gear targeting groundfish has remained open thus far as the first seasonal allowance of halibut PSC has not been reached (as of November 8, 2005). The amount of groundfish that trawl gear might have harvested if halibut catch limitations had not restricted the 2005 season is unknown.

Expected Changes in Groundfish Stocks and Catch

Proposed 2006 and 2007 ABCs for pollock, flathead sole, and arrowtooth flounder (in 2007) are higher than those established for 2005. However, the proposed 2006 and 2007 ABCs for Pacific cod, sablefish, arrowtooth (in 2006), northern rockfish, Pacific ocean perch, and pelagic shelf rockfish are lower than those established for 2005. For the remaining target species, the Council recommended that ABC levels remain unchanged from 2005. More information on these changes is included in the final SAFE report (November 2004) and in the Council, SSC, and AP October 2005 meeting minutes available from the Council (see ADDRESSES).

The total TAC amounts for the GOA are 301,304 mt for 2006, and 281,640 mt for 2007, an increase of about 3.4 percent in 2006 and a decrease of about 3.3 percent in 2007 from the 2005 TAC total of 291,298 mt. Those fisheries for which the 2006 and 2007 TACs are lower than in 2005 are Pacific cod (decreased to 42,128 mt in 2006 and 35,436 mt in 2007 from 44,433 mt in 2005), flathead sole (decreased to 9,644 mt in 2007 from 10,390 mt in 2005), sablefish (decreased to 14,880 mt in 2006 and 13,900 mt in 2007 from 15,940 mt in 2005), northern rockfish (decreased to 4,730 mt in 2006 and 4,430 mt in 2007 from 5,091 mt in 2005), Pacific ocean perch (decreased to 13,292 mt in 2006 and 13,150 mt in 2007 from 13,575 mt in 2005), and “other species” (decreased to 13,411 mt in 2007 from 13,871 mt in 2005). Those fisheries for which the 2006 and 2007 TACs are higher than in 2005 are pollock (increased to 105,220 mt in 2006 and 95,520 mt in 2007 from 91,710 mt in 2005), flathead sole (increased to 10,557 mt in 2006 mt from 10,390 mt in 2005), and “other species” (increased to 13,411 mt in 2006 from 13,871 mt in 2005).

Current Estimates of Halibut Biomass and Stock Condition

The most recent halibut stock assessment was conducted by the International Pacific Halibut Commission (IPHC) in December 2004 for the 2005 commercial fishery. The 2004 assessment contains minor technical changes from the previous year. The halibut stock is healthy in the central and southern portion of its range (Areas 3A through 2A) but is believed to have declined in western and northern portion of its range (Areas 3B and 4). The current exploitable halibut biomass in Alaska for 2005 was estimated to be 149,687 mt, down from 215,912 mt in 2004. Most of this change is due to revised estimates of biomass in 2004. The female spawning biomass remains far above the minimum which occurred in the 1970s.

The exploitable biomass of the Pacific halibut stock apparently peaked at 326,520 mt in 1988. According to the IPHC, the long-term average reproductive biomass for the Pacific halibut resource was estimated at 118,000 mt. Long-term average yield was estimated at 26,980 mt, round weight. The species is fully utilized. Recent average catches (1994-2004) in the commercial halibut fisheries in Alaska have averaged 34,241 mt, round weight. This catch in Alaska is 27 percent higher than long-term potential yield for the entire halibut stock reflecting the good condition of the Pacific halibut resource. In January 2005, the IPHC recommended commercial catch limits totaling 35,828 mt, round weight, for Alaska in 2005. Through October 14, 2005, commercial hook- and line harvests of halibut in Alaska totaled 34,459 mt, round weight.

In 2004, IPHC staff identified a 25 percent harvest rate as a candidate target rate for use with the new population assessment, pending its evaluation using the sex-specific population model. This updated evaluation was completed and indicated that a harvest rate less than 25 percent would result in a 50 percent lower probability that the stock biomass would reach a level requiring reductions in harvest rate. Accordingly, the IPHC adopted a harvest rate of 22.5 percent for the central and southern regulatory areas (Areas 3A through 2A) and a harvest rate of 20 percent for the western and northern regulatory areas (Areas 3B and 4) in 2005. The lower rate for the western and northern areas is based on a concern that the long term productivity of these areas may not be as high as the central and southern areas.

Additional information on the Pacific halibut stock assessment may be found in the IPHC's 2004 Pacific halibut stock assessment (December 2004), available from the IPHC and on its website at http://www.iphc.washington.edu. The IPHC will consider the 2005 Pacific halibut assessment for 2006 at its January 2006 annual meeting when it sets the 2006 commercial halibut fishery quotas.

Other Factors

The allowable commercial catch of halibut will be adjusted to account for the overall halibut PSC mortality limit established for groundfish fisheries. The 2006 and 2007 groundfish fisheries are expected to use the entire proposed annual halibut PSC limit of 2,300 mt. The allowable directed commercial catch is determined by accounting for the recreational and subsistence catch, waste, and bycatch mortality and then providing the remainder to the directed fishery. Groundfish fishing is not expected to adversely affect the halibut stocks. Methods available for reducing halibut bycatch include: (1) Publication of individual vessel bycatch rates on the NMFS Alaska Region homepage at http://www.fakr.noaa.gov, (2) modifications to gear, (3) changes in groundfish fishing seasons, (4) individual transferable quota programs, and (5) time/area closures.

Reductions in groundfish TAC amounts provide no incentive for fishermen to reduce bycatch rates. Costs that would be imposed on fishermen as a result of reducing TAC amounts depend on the species and amounts of groundfish foregone.

Under § 679.2, the definition of “Authorized fishing gear,” paragraph 12, specifies requirements for biodegradable panels and tunnel openings for groundfish pots to reduce halibut bycatch. As a result, low bycatch and mortality rates of halibut in pot fisheries have justified exempting pot gear from PSC limits.

The regulations also define “Pelagic trawl gear” in a manner intended to reduce bycatch of halibut by displacing fishing effort off the bottom of the sea floor when certain halibut bycatch levels are reached during the fishing year. The definition provides standards for physical conformation (§ 679.2, “Authorized fishing gear,” paragraph 11) and performance of the trawl gear in terms of crab bycatch (§ 679.7(a)(14)). Furthermore, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

NMFS and the Council will review the methods available for reducing halibut bycatch listed here to determine their effectiveness, and will initiate changes, as necessary, in response to this review or to public testimony and comment.

Halibut Discard Mortality Rates

The Council recommends and NMFS proposes that the recommended halibut discard mortality rates (DMRs) developed by the staff of the IPHC for the 2005 GOA groundfish fisheries be used to monitor halibut bycatch mortality limits established for the 2006 and 2007 GOA groundfish fisheries. The IPHC recommended use of long-term average DMRs for the 2004-2006 groundfish fisheries. The IPHC recommendation also includes a provision that DMRs could be revised should analysis indicate that a fishery's annual DMR deviates substantially (up or down) from the long-term average. Most of the IPHC's assumed DMRs were based on an average of mortality rates determined from NMFS observer data collected between 1993 and 2002. DMRs were lacking for some fisheries, so rates from the most recent years were used. For the “other species” and skate fisheries, where insufficient mortality data are available, the mortality rate of halibut caught in the Pacific cod fishery for each gear type was recommended as a default rate. The DMRs proposed for the GOA in 2006 and 2007 are unchanged from those used in 2005. The DMRs for hook-and-line targeted fisheries range from 8 to 13 percent. The DMRs for trawl targeted fisheries range from 57 to 75 percent. The DMRs for all pot targeted fisheries is 17 percent. The proposed DMRs for 2006 and 2007 are listed in Table 11. The justification for these DMRs is discussed in Appendix A of the final SAFE report dated November 2004. The IPHC will update and provide recommendations for halibut DMRs in 2006 for the 2007 groundfish fisheries.

Table 11.—Proposed 2006 and 2007 Halibut Discard Mortality Rates for Vessels Fishing in the Gulf of Alaska
[Listed values are percent of halibut bycatch assumed to be dead]
Gear | Target | Mortality Rate
Hook-and-line | Other species | 13
| Skates | 13
| Pacific cod | 13
| Rockfish | 8
Trawl | Arrowtooth flounder | 69
| Atka mackerel | 60
| Deep-water flatfish | 57
| Flathead sole | 62
| Non pelagic pollock | 59
| Other species | 61
| Skates | 61
| Pacific cod | 61
| Pelagic pollock | 75
| Rex sole | 62
| Rockfish | 67
| Sablefish | 62
| Shallow-water flatfish | 68
Pot | Other species | 17
| Skates | 17
| Pacific cod | 17

Non-Exempt American Fisheries Act (AFA) Catcher Vessel Groundfish Harvest and PSC Limitations

Section 679.64 established groundfish harvesting and processing sideboard limitations on AFA catcher/processors and catcher vessels in the GOA. These sideboard limitations are necessary to protect the interests of fishermen and processors who do not directly benefit from the AFA from fishermen and processors who received exclusive harvesting and processing privileges under the AFA. In the GOA, listed AFA catcher/processors are prohibited from harvesting any species of fish (§ 679.7(k)(1)(ii)) and from processing any groundfish harvested in Statistical Area 630 of the GOA (§ 679.7(k)(1)(iv)). Section 679.64(b)(2)(ii) exempts from sideboard limitations AFA catcher vessels in the GOA less than 125 ft (38.1 m) LOA whose annual Bering Sea and Aleutians Islands pollock landings totaled less than 5,100 mt and that made 40 or more GOA groundfish landings from 1995 through 1997.

For non-exempt AFA catcher vessels in the GOA, sideboard limitations are based on their traditional harvest levels of TAC in groundfish fisheries covered by the GOA FMP. Section 679.64(b)(3)(iii) establishes the GOA groundfish sideboard limitations based on the retained catch of non-exempt AFA catcher vessels of each sideboard species from 1995 through 1997 divided by the TAC for that species over the same period. These amounts are listed in Table 12 for 2006 and in Table 13 for 2007. All targeted or incidental catch of sideboard species made by non-exempt AFA catcher vessels will be deducted from the sideboard limits in Tables 12 and 13.

Table 12.—Proposed 2006 GOA Non-Exempt American Fisheries Act Catcher Vessel (CV) Groundfish Harvest Sideboard Limitations
[Values are rounded to nearest metric ton]
Species | Apportionments and allocations by area/season/processor/gear | Ratio of 1995-1997 non-exempt AFA CV catch to 1995-1997 TAC | 2006 TAC | 2006 non-exempt AFA catcher vessel sideboard
Pollock | A Season (W/C areas only) |  |  |
| January 20-March 10 |  |  |
| Shumagin (610) | 0.6112 | 5,835 | 3,566
| Chirikof (620) | 0.1427 | 13,547 | 1,933
| Kodiak (630) | 0.2438 | 4,805 | 1,171
| B Season (W/C areas only) |  |  |
| March 10-May 31 |  |  |
| Shumagin (610) | 0.6112 | 5,835 | 3,566
| Chirikof (620) | 0.1427 | 16,012 | 2,285
| Kodiak (630) | 0.2438 | 2,339 | 570
| C Season (W/C areas only) |  |  |
| August 25-October 1 |  |  |
| Shumagin (610) | 0.6112 | 11,766 | 7,191
| Chirikof (620) | 0.1427 | 5,153 | 735
| Kodiak (630) | 0.2438 | 7,267 | 1,772
| D Season (W/C areas only) |  |  |
| October 1-November 1 |  |  |
| Shumagin (610) | 0.6112 | 11,766 | 7,191
| Chirikof (620) | 0.1427 | 5,153 | 735
| Kodiak (630) | 0.2438 | 7,267 | 1,772
| Annual |  |  |
| WYK (640) | 0.3499 | 1,955 | 684
| SEO (650) | 0.3499 | 6,520 | 2,281
Pacific cod | A Season¹ |  |  |
| January 1-June 10 |  |  |
| W inshore | 0.1423 | 8,080 | 1,050
| W offshore | 0.1026 | 898 | 92
| C inshore | 0.0722 | 12,794 | 924
| C offshore | 0.0721 | 1,421 | 102
| B Season ² |  |  |
| September 1-December 31.
| W inshore | 0.1423 | 5,388 | 767
| W offshore | 0.1026 | 598 | 61
| C inshore | 0.0722 | 8,529 | 616
| C offshore | 0.0721 | 948 | 68
| Annual |  |  |
| E inshore | 0.0079 | 3,125 | 25
| E offshore | 0.0078 | 347 | 3
Flatfish deep-water | W | 0.0000 | 330 | 0
| C | 0.0670 | 3,340 | 224
| E | 0.0171 | 3,150 | 54
Rex sole | W | 0.0010 | 1,680 | 2
| C | 0.0402 | 7,340 | 295
| E | 0.0153 | 3,360 | 56
Flathead sole | W | 0.0036 | 2,000 | 7
| C | 0.0261 | 5,000 | 131
| E | 0.0048 | 3,557 | 17
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 474 | 0
| C trawl gear | 0.0720 | 1,353 | 97
| E trawl gear | 0.0488 | 287 | 14
Pacific ocean perch | W | 0.0623 | 2,525 | 157
| C | 0.0866 | 8,357 | 725
| E | 0.0466 | 2,392 | 111
Shortraker rockfish | W | 0.0000 | 155 | 0
| C | 0.0237 | 324 | 8
| E | 0.0124 | 247 | 3
Rougheye rockfish | W | 0.0000 | 188 | 0
| C | 0.0237 | 557 | 13
| E | 0.0124 | 262 | 3
Other rockfish | W | 0.0034 | 40 | 0
| C | 0.2065 | 300 | 62
| E | 0.0000 | 330 | 0
Northern rockfish | W | 0.0003 | 752 | 0
| C | 0.0336 | 3,978 | 146
Pelagic shelf rockfish | W | 0.0001 | 366 | 0
| C | 0.0000 | 2,973 | 0
| E | 0.0067 | 1,076 | 7
Thornyhead rockfish | W | 0.0308 | 410 | 13
| C | 0.0308 | 1,010 | 31
| E | 0.0308 | 520 | 16
Big skates | W | 0.0090 | 727 | 7
| C | 0.0090 | 2,463 | 22
| E | 0.0090 | 809 | 7
Longnose skates | W | 0.0090 | 66 | 1
| C | 0.0090 | 1,972 | 18
| E | 0.0090 | 780 | 7
Other skates | GW | 0.0090 | 1,327 | 12
Demersal shelf rockfish | SEO | 0.0020 | 410 | 1
Atka mackerel | Gulfwide | 0.0309 | 600 | 19
Other species | Gulfwide | 0.0090 | 14,348 | 129
¹ The Pacific cod A season for trawl gear does not open until January 20.
² The Pacific cod B season for trawl gear closes November 1.

Table 13.—Proposed 2007 GOA Non-Exempt American Fisheries Act Catcher Vessel (CV) Groundfish Harvest Sideboard Limitations.
[Values are rounded to nearest metric ton]
Species | Apportionments and allocations by area/season/processor/gear | Ratio of 1995-1997 non-exempt AFA CV catch to 1995-1997 TAC | 2007 TAC | 2007 non-exempt AFA catcher vessel sideboard
Pollock | A Season (W/C areas only): January 20-March 10 |  |  |
| Shumagin (610) | 0.6112 | 5,262 | 3,216
| Chirikof (620) | 0.1427 | 12,216 | 1,743
| Kodiak (630) | 0.2438 | 4,332 | 1,056
| B Season (W/C areas only) |  |  |
| March 10-May 31 |  |  |
| Shumagin (610) | 0.6112 | 5,261 | 3,216
| Chirikof (620) | 0.1427 | 14,439 | 2,060
| Kodiak (630) | 0.2438 | 2,109 | 514
| C Season (W/C areas only) |  |  |
| August 25-October 1 |  |  |
| Shumagin (610) | 0.6112 | 10,610 | 6,485
| Chirikof (620) | 0.1427 | 4,646 | 633
| Kodiak (630) | 0.2438 | 6,553 | 1,598
| D Season (W/C areas only) |  |  |
| October 1-November 1 |  |  |
| Shumagin (610) | 0.6112 | 10,610 | 6,485
| Chirikof (620) | 0.1427 | 4,646 | 663
| Kodiak (630) | 0.2438 | 6,553 | 1,598
| Annual |  |  |
| WYK (640) | 0.3499 | 1,763 | 617
| SEO (650) | 0.3499 | 6,520 | 2,281
Pacific cod | A Season ¹ |  |  |
| January 1-June 10 |  |  |
| W inshore | 0.1423 | 6,797 | 967
| W offshore | 0.1026 | 755 | 77
| C inshore | 0.0722 | 10,761 | 777
| C offshore | 0.0721 | 1,197 | 86
| B Season ² |  |  |
| September 1-December 31 |  |  |
| W inshore | 0.1423 | 4,531 | 645
| W offshore | 0.1026 | 504 | 52
| C inshore | 0.0722 | 7,175 | 518
| C offshore | 0.0721 | 797 | 57
| Annual |  |  |
| E inshore | 0.0079 | 2,628 | 21
| E offshore | 0.0078 | 292 | 2
Flatfish deep-water
| W | 0.0000 | 330 | 0
| C | 0.0670 | 3,340 | 224
| E | 0.0171 | 3,150 | 54
Rex sole
| W | 0.0010 | 1,680 | 2
| C | 0.0402 | 7,340 | 295
| E | 0.0153 | 3,630 | 56
Flathead sole
| W | 0.0036 | 2,000 | 7
| C | 0.0261 | 5,000 | 131
| E | 0.0048 | 2,664 | 13
Flatfish shallow-water
| W | 0.0156 | 4,500 | 70
| C | 0.0598 | 13,000 | 777
| E | 0.0126 | 3,240 | 41
Arrowtooth flounder
| W | 0.0021 | 8,000 | 17
| C | 0.0309 | 25,000 | 773
| E | 0.0020 | 5,000 | 10
Sablefish
| W trawl gear | 0.0000 | 443 | 0
| C trawl gear | 0.0720 | 1,264 | 91
| E trawl gear | 0.0488 | 268 | 13
Pacific ocean perch
| W | 0.0623 | 2,494 | 155
| C | 0.0866 | 8,293 | 718
| E | 0.0466 | 2,363 | 110
Shortraker rockfish
| W | 0.0000 | 155 | 0
| C | 0.0237 | 324 | 8
| E | 0.0124 | 247 | 3
Rougheye rockfish
| W | 0.0000 | 188 | 0
| C | 0.0237 | 557 | 13
| E | 0.0124 | 262 | 3
Other rockfish
| W | 0.0034 | 40 | 0
| C | 0.2065 | 300 | 62
| E | 0.0000 | 330 | 0
Northern rockfish
| W | 0.0003 | 704 | 0
| C | 0.0336 | 3,726 | 136
Pelagic shelf rockfish
| W | 0.0001 | 366 | 0
| C | 0.0000 | 2,973 | 0
| E | 0.0067 | 1,076 | 7
Thornyhead rockfish
| W | 0.0308 | 410 | 13
| C | 0.0308 | 1,010 | 31
| E | 0.0308 | 520 | 16
Big skates
| W | 0.0090 | 727 | 7
| C | 0.0090 | 2,463 | 22
| E | 0.0090 | 809 | 7
Longnose skates
| W | 0.0090 | 66 | 1
| C | 0.0090 | 1,972 | 18
| E | 0.0090 | 780 | 7
Other skates
| GW | 0.0090 | 1,327 | 12
Demersal shelf rockfish
| SEO | 0.0020 | 410 | 1
Atka mackerel
| Gulfwide | 0.0309 | 600 | 19
Other species
| Gulfwide | 0.0090 | 13,411 | 121
¹ The Pacific cod A season for trawl gear does not open until January 20.
² The Pacific cod B season for trawl gear closes November 1.

In accordance with § 679.64(b)(4), PSC sideboard limitations for non-exempt AFA catcher vessels in the GOA are based on the ratio of aggregate retained groundfish catch by non-exempt AFA catcher vessels in each PSC target category from 1995 through 1997, relative to the retained catch of all vessels in that fishery from 1995 through 1997. These amounts are shown in Table 14.

Table 14.—Proposed 2006 and 2007 Non-Exempt American Fisheries Act Catcher Vessel Prohibited Species Catch (PSC) Limits for the GOA.
[Values are in metric tons]
PSC species | Season | Target fishery | Ratio of 1995-1997 non-exempt AFA CV retained catch to total retained catch | 2006 and 2007 PSC limit | 2006 and 2007 non-exempt AFA catcher vessel PSC limit
Halibut (mortality in mt) | Trawl 1st seasonal allowance January 20-April 1 | shallow water targets | 0.340 | 450 | 153
|  | deep water targets | 0.070 | 100 | 7
| Trawl 2nd seasonal allowance April 1-July 1 | shallow water targets | 0.340 | 100 | 34
|  | deep water targets | 0.070 | 300 | 21
| Trawl 3rd seasonal allowance July 1-September 1 | shallow water targets | 0.340 | 200 | 68
|  | deep water targets | 0.070 | 400 | 28
| Trawl 4th seasonal allowance September 1-October 1 | shallow water targets | 0.340 | 150 | 51
|  | deep water targets | 0.070 | 0 | 0
| Trawl 5th seasonal allowance October 1-December 31 | all targets | 0.205 | 300 | 61

Non-AFA Crab Vessel Groundfish Harvest Limitations

Section 680.22 establishes groundfish catch limitations for vessels with a history of participation in the Bering Sea snow crab fishery to prevent these vessels from using the increased flexibility provided by the Crab Rationalization Program to expand their level of participation in the GOA groundfish fisheries. Restrictions on participation in other fisheries, also called sideboards, will restrict a vessel's harvests to its historical landings in all GOA groundfish fisheries (except the fixed-gear sablefish fishery). Restrictions also will apply to landings made using a License Limitation Program (LLP) license derived from the history of a restricted vessel, even if that LLP is used on another vessel.

For non-AFA crab vessels in the GOA, sideboards limitations are based on their traditional harvest levels of TAC in groundfish fisheries covered by the GOA FMP. The regulations base the groundfish sideboard limitations in the GOA on the retained catch by non-AFA crab vessels of each sideboard species from 1996 through 2000 divided by the total retained harvest of that species over the same period (§ 680.22 (d) and (e)). These amounts are listed in Table 15 for 2006 and in Table 16 for 2007. All harvests of sideboard species made by non-AFA crab vessels, whether as targeted catch or incidental catch, will be deducted from the sideboard limits in Tables 15 and 16. Vessels exempt from Pacific cod sideboards are those that landed less than 45,359 kg of Bering Sea snow crab and more than 500 mt of groundfish (in round weight equivalents) from the GOA between January 1, 1996 and December 31, 2000, and any vessel named on an LLP that was generated in whole or in part by the fishing history of a vessel meeting the criteria in § 680.22(a)(3). The ratios of 1996-2000 non-AFA CV catch to 1996-2000 total harvest in Tables 15 and 16 may be subject to modification pending changes to named vessels on LLPs as of December 31, 2005.

Table 15.—Proposed 2006 GOA Non American Fisheries Act Crab Vessel (CV) Groundfish Harvest Sideboard Limitations
[Values are rounded to nearest metric ton]
Species | Apportionments and allocations by area/season/processor/gear | Ratio of 1996-2000 non-AFA CV catch to 1996-2000 total harvest | 2006 TAC | 2006 non-AFA crab vessel sideboard
Pollock | A Season (W/C areas only); January 20-March 10 |  |  |
| Shumagin (610) | 0.0325 | 5,835 | 190
| Chirikof (620) | 0.0101 | 13,547 | 137
| Kodiak (630) | 0.0003 | 4,805 | 1
| B Season (W/C areas only); March 10-May 31 |  |  |
| Shumagin (610) | 0.0325 | 5,835 | 190
| Chirikof (620) | 0.0101 | 16,012 | 162
| Kodiak (630) | 0.0003 | 2,339 | 1
| C Season (W/C areas only); August 25-October 1 |  |  |
| Shumagin (610) | 0.0325 | 11,766 | 382
| Chirikof (620) | 0.0101 | 5,153 | 52
| Kodiak (630) | 0.0003 | 7,267 | 2
| D Season (W/C areas only); October 1-November 1 |  |  |
| Shumagin (610) | 0.0325 | 11,766 | 382
| Chirikof (620) | 0.0101 | 5,153 | 52
| Kodiak (630) | 0.0003 | 7,267 | 2
| Annual |  |  |
| WYK (640) | 0.0000 | 1,955 | 0
| SEO (650) | 0.0000 | 6,520 | 0
Pacific cod | A Season ¹; January 1-June 10 |  |  |
| W inshore | 0.0976 | 8,080 | 789
| W offshore | 0.3550 | 898 | 319
| C inshore | 0.0502 | 12,794 | 642
| C offshore | 0.2659 | 1,421 | 378
| B Season ²September 1-December 31 |  |  |
| W inshore | 0.0976 | 5,388 | 526
| W offshore | 0.3550 | 598 | 212
| C inshore | 0.0502 | 8,529 | 428
| C offshore | 0.2659 | 948 | 252
| Annual |  |  |
| E inshore | 0.0179 | 3,125 | 56
| E offshore | 0.0000 | 347 | 0
Flatfish deep-water | W | 0.0048 | 330 | 2
| C | 0.0001 | 3,340 | 0
| E | 0.0000 | 3,150 | 0
Rex sole | W | 0.0001 | 1,680 | 0
| C | 0.0001 | 7,340 | 1
| E | 0.0000 | 3,630 | 0
Flathead sole | W | 0.0037 | 2,000 | 7
| C | 0.0005 | 5,000 | 3
| E | 0.0000 | 3,557 | 0
Flatfish shallow-water | W | 0.0061 | 4,500 | 27
| C | 0.0001 | 13,000 | 1
| E | 0.0000 | 3,240 | 0
Arrowtooth flounder | W | 0.0017 | 8,000 | 14
| C | 0.0003 | 25,000 | 8
| E | 0.0000 | 5,000 | 0
Sablefish | W trawl gear | 0.0000 | 474 | 0
| C trawl gear | 0.0007 | 1,353 | 1
| E trawl gear | 0.0000 | 287 | 0
Pacific ocean perch | W | 0.0000 | 2,525 | 0
| C | 0.0008 | 8,357 | 7
| E | 0.0000 | 2,392 | 0
Shortraker rockfish | W | 0.0017 | 155 | 0
| C | 0.0028 | 324 | 1
| E | 0.0012 | 247 | 0
Rougheye rockfish | W | 0.0067 | 188 | 1
| C | 0.0050 | 557 | 3
| E | 0.0011 | 262 | 0
Other rockfish | W | 0.0035 | 40 | 0
| C | 0.0034 | 300 | 1
| E | 0.0001 | 330 | 0
Northern rockfish | W | 0.0005 | 752 | 0
| C | 0.0018 | 3,978 | 7
Pelagic shelf rockfish | W | 0.0017 | 366 | 1
| C | 0.0002 | 2,973 | 1
| E | 0.0000 | 1,076 | 0
Thornyhead rockfish | W | 0.0051 | 410 | 2
| C | 0.0077 | 1,010 | 8
| E | 0.0050 | 520 | 3
Big skate | W | 0.0200 | 727 | 15
| C | 0.0200 | 2,463 | 49
| E | 0.0200 | 809 | 16
Longnose skate | W | 0.0200 | 66 | 1
| C | 0.0200 | 1,972 | 39
| E | 0.0200 | 780 | 16
Other skates | GW | 0.0200 | 1,327 | 27
Demersal shelf rockfish | SEO | 0.0000 | 410 | 0
Atka mackerel | Gulfwide | 0.0000 | 600 | 0
Other species | Gulfwide | 0.0200 | 14,348 | 287
¹ The Pacific cod A season for trawl gear does not open until January 20.
² The Pacific cod B season for trawl gear closes November 1.

Table 16.—Proposed 2007 GOA Non American Fisheries Act Crab Vessel (CV) Groundfish Harvest Sideboard Limitations.
[Values are rounded to nearest metric ton]
Species | Apportionments and allocations by area/season/processor/gear | Ratio of 1996-2000 non-AFA CV catch to 1996-2000 total harvest | 2007 TAC | 2007 non-AFA crab vessel sideboard
Pollock | A Season (W/C areas only)
| January 20-March 10
| Shumagin (610) | 0.0325 | 5,262 | 171
| Chirikof (620) | 0.0101 | 12,216 | 123
| Kodiak (630) | 0.0003 | 4,332 | 1
| B Season (W/C areas only)
| March 10-May 31
| Shumagin (610) | 0.0325 | 5,261 | 171
| Chirikof (620) | 0.0101 | 14,439 | 146
| Kodiak (630) | 0.0003 | 2,109 | 1
| C Season (W/C areas only)
| August 25-October 1
| Shumagin (610) | 0.0325 | 10,610 | 345
| Chirikof (620) | 0.0101 | 4,646 | 47
| Kodiak (630) | 0.0003 | 6,553 | 2
| D Season (W/C areas only)
| October 1-November 1
| Shumagin (610) | 0.0325 | 10,610 | 345
| Chirikof (620) | 0.0101 | 4,646 | 47
| Kodiak (630) | 0.0003 | 6,553 | 2
| Annual |  |  |
| WYK (640) | 0.0000 | 1,763 | 0
| SEO (650) | 0.0000 | 6,520 | 0
Pacific cod | A Season ¹
| January 1-June 10
| W inshore | 0.0976 | 6,797 | 663
| W offshore | 0.3550 | 755 | 268
| C inshore | 0.0502 | 10,761 | 540
| C offshore | 0.2659 | 1,197 | 318
| B Season ²
| September 1-December 31
| W inshore | 0.0976 | 4,531 | 442
| W offshore | 0.3550 | 504 | 179
| C inshore | 0.0502 | 7,175 | 360
| C offshore | 0.2659 | 797 | 212
| Annual
| E inshore | 0.0179 | 2,628 | 47
| E offshore | 0.0000 | 292 | 0
Flatfish deep-water | W | 0.0048 | 330 | 2
| C | 0.0001 | 3,340 | 0
| E | 0.0000 | 3,150 | 0
Rex sole | W | 0.0001 | 1,680 | 0
| C | 0.0001 | 7,340 | 1
| E | 0.0000 | 3,630 | 0
Flathead sole | W | 0.0037 | 2,000 | 7
| C | 0.0005 | 5,000 | 3
| E | 0.0000 | 2,664 | 0
Flatfish shallow water | W | 0.0061 | 4,500 | 27
| C | 0.0001 | 13,000 | 1
| E | 0.0000 | 3,240 | 0
Arrowtooth flounder | W | 0.0017 | 8,000 | 14
| C | 0.0003 | 25,000 | 8
| E | 0.0000 | 5,000 | 0
Sablefish | W trawl gear | 0.0000 | 443 | 0
| C trawl gear | 0.0007 | 1,264 | 1
| E trawl gear | 0.0000 | 268 | 0
Pacific ocean perch | W | 0.0000 | 2,494 | 0
| C | 0.0008 | 8,293 | 7
| E | 0.0000 | 2,363 | 0
Shortraker rockfish | W | 0.0017 | 155 | 0
| C | 0.0028 | 324 | 1
| E | 0.0012 | 247 | 0
Rougheye rockfish | W | 0.0067 | 188 | 1
| C | 0.0050 | 557 | 3
| E | 0.0011 | 262 | 0
Other rockfish | W | 0.0035 | 40 | 0
| C | 0.0034 | 300 | 1
| E | 0.0001 | 330 | 0
Northern rockfish | W | 0.0005 | 704 | 0
| C | 0.0018 | 3,726 | 7
Pelagic shelf rockfish | W | 0.0017 | 366 | 1
| C | 0.0002 | 2,973 | 1
| E | 0.0000 | 1,076 | 0
Thornyhead rockfish | W | 0.0051 | 410 | 2
| C | 0.0077 | 1,010 | 8
| E | 0.0050 | 520 | 3
Big skate | W | 0.0200 | 727 | 15
| C | 0.0200 | 2,463 | 49
| E | 0.0200 | 809 | 16
Longnose skate | W | 0.0200 | 66 | 1
| C | 0.0200 | 1,972 | 39
| E | 0.0200 | 780 | 16
Other skates | GW | 0.0200 | 1,327 | 27
Demersal shelf rockfish | SEO | 0.0000 | 410 | 0
Atka mackerel | Gulfwide | 0.0000 | 600 | 0
Other species | Gulfwide | 0.0200 | 13,411 | 268
¹ The Pacific cod A season for trawl gear does not open until January 20.
² The Pacific cod B season for trawl gear closes November 1.

Classification

An IRFA was prepared to evaluate the impacts of the 2006 and 2007 proposed harvest specifications on directly regulated small entities. This IRFA is intended to meet the statutory requirements of the Regulatory Flexibility Act (RFA). A copy of the IRFA is available from NMFS (See ADDRESSES). The reason for the action, a statement of the objective of the action, and the legal basis are discussed in the preamble and are not repeated here.

The 2006 and 2007 harvest specifications establish harvest limits for the groundfish species and species groups in the GOA. Entities directly impacted are those fishing for groundfish in the Exclusive Economic Zone (EEZ), or in parallel fisheries in State waters (in which harvests are counted against the Federal TAC). An estimated 693 small catcher vessels, 18 small catcher/processors, and 6 small private non-profit CDQ groups may be directly regulated by these harvest specifications in the GOA. The catcher vessel estimate in particular is subject to various uncertainties. It may provide an underestimate since it does not count vessels that fish only within State parallel fisheries. This underestimate may be offset by upward biases introduced by the use of preliminary price estimates (which don't fully account for post-season price adjustments) and by a failure to account for affiliations, other than AFA cooperative affiliations, among entities. For these reasons, the catcher vessel estimate must be considered an approximation.

The IRFA examined the impacts of the preferred alternative on small entities within fisheries reliant on species groups whose TACs might be notably adjusted by the harvest specifications. The IRFA identified the potential for adverse impacts on small fishing operations harvesting Pacific cod, sablefish, and rockfish species in the GOA.

GOA Pacific cod revenue decreases for small entities and were estimated to be about 1 percent of their revenues from all sources in 2006 and 3.7 percent between 2005 and 2007. Sablefish revenue decreases for small entities and were estimated to be about 3.7 percent of their revenues from all sources in 2006 and 6.7 percent between 2005 and 2007. TAC declines were expected for the rockfish species or species groups, Pacific ocean perch, northern rockfish, and pelagic shelf rockfish. Rockfish revenue changes for small entities were estimated to be a maximum of 4.7 percent of their revenues from all sources in 2006 and a maximum of 4 percent between 2005 and 2007.

This regulation does not impose new recordkeeping or reporting requirements on the regulated small entities. This analysis did not reveal any Federal rules that duplicate, overlap, or conflict with the proposed action.

This analysis examined four alternatives to the preferred alternative. These included alternatives that set TACs to produce fishing rates equal to maxFABC, one half maxFABC, the recent 5 year average F, and zero. Only one of these alternatives, setting TACs equal to maxFABC, would have potentially a smaller adverse impact on small entities than the preferred alternative. This alternative is associated with larger gross revenues for the GOA fisheries. Many of the vessels identified above would share in these gross revenues. However, the maxFABC is a fishing rate that may, and often does, exceed biologically recommended ABCs. For the pollock, deep-water flatfish, rex sole, sablefish, Pacific ocean perch, shortraker rockfish, rougheye rockfish, northern rockfish, pelagic shelf rockfish, thornyhead rockfish, demersal shelf rockfish, skate, and Atka mackerel fisheries described above, the preferred alternative, which produces fishing rates less than maxFABC, sets TACs equal to projected annual ABCs. In addition, the preferred alternative TACs for Pacific cod, when combined with the State of Alaska guideline harvest levels for these fisheries, also equals ABC. The increases in TACs related to producing fishing rates of maxFABC would not be consistent with biologically prudent fishery management because they do not fall within the scientifically determined ABC.

This action is authorized under § 679.20 and is exempt from review under Executive Order 12866.

Authority: 16 U.S.C. 773 et seq.; 1540(f); 1801 et seq.; 1851 note; and 3631 et seq.

Dated: December 12, 2005.
James W. Balsiger,
Acting Deputy Assistant Administrator for Regulatory Programs, National Marine Fisheries Service.

[FR Doc. E5-7463 Filed 12-15-05; 8:45 am]

BILLING CODE 3510-22-P